DEPARTMENT OF TRANSPORTATION

Federal Aviation Administration

14 CFR Part 97

[Docket No. 30443; Amdt. No. 3120]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective April 15, 2005. The compliance date for each SIAP is specified in the amendatory provisions.

The incorporation by reference of certain publications listed in the regulations is approved by the Director of the Federal Register as of April 15, 2005.

ADDRESSES: Availability of matters incorporated by reference in the amendment is as follows:

For Examination—

1. FAA Rules Docket, FAA Headquarters Building, 800 Independence Avenue, SW., Washington, DC 20591;

2. The FAA Regional Office of the region in which the affected airport is located;

3.The Flight Inspection Area Office which originated the SIAP; or,

4.The National Archives and Records Administration (NARA). For information on the availability of this material at NARA, call 202-741-6030, or go to: http://www.archives.gov/federal_register/code_of_federal_regulations/ibr_locations.html.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on April 8, 2005.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 12 May 2005

Phoenix, AZ, Phoenix Deer Valley, RNAV (GPS)-B, Orig

Phoenix, AZ, Phoenix Deer Valley, RNAV (GPS)-C, Orig

Phoenix, AZ, Phoenix Deer Valley, RNAV (GPS) RWY 7R, Orig

Phoenix, AZ, Phoenix Deer Valley, RNAV (GPS) RWY 25L, Orig

Phoenix, AZ, Phoenix Deer Valley, GPS-A, Orig-B, CANCELLED

Phoenix, AZ, Phoenix Deer Valley, GPS RWY 7R, Orig-B, CANCELLED

Phoenix, AZ, Phoenix Deer Valley, NDB OR GPS RWY 25L, Amdt 3A, CANCELLED

San Jose, CA, Norman Y. Mineta San Jose Intl, RNAV (GPS) RWY 12R, Amdt 1

San Jose, CA, Norman Y. Mineta San Jose Intl, RNAV (GPS) RWY 30L, Amdt 1

Danbury, CT, Danbury Muni, LOC RWY 8, Amdt 4

Pensacola, FL, Pensacola Regional, RNAV (GPS) RWY 17, Amdt 1

Pensacola, FL, Pensacola Regional, RNAV (GPS) RWY 35, Amdt 1

Eastman, GA, Heart of Georgia Regional, VOR/DME-A, Amdt 7

Eastman, GA, Heart of Georgia Regional, NDB RWY 2, Amdt 1

Eastman, GA, Heart of Georgia Regional, RNAV (GPS) RWY 2, Orig

Eastman, GA, Heart of Georgia Regional, VOR/DME RNAV OR GPS RWY 2, Amdt 2A, CANCELLED

Eastman, GA, Hart of Georgia Regional, RNAV (GPS) RWY 20, Orig

Newnan, GA, Newnan Coweta County, LOC RWY 32, Amdt 1

Newnan, GA, Newnan Coweta County, NDB RWY 32, Amdt 4

Newnan, GA, Newnan Coweta County, RNAV (GPS) RWY 14, Orig

Newnan, GA, Newnan Coweta County, GPS RWY 14, Orig, CANCELLED

Waycross, GA, Waycross-Ware County, NDB RWY 18, Amdt 1

Waycross, GA, Waycross-Ware County, VOR-A, Amdt 8

Waycross, GA, Waycross-Ware County, ILS OR LOC RWY 18, Amdt 1

Waycross, GA, Waycross-Ware County, GPS RWY 18, Orig, CANCELLED

Waycross, GA, Waycross-Ware County, GPS RWY 36, Orig, CANCELLED

Waycross, GA, Waycross-Ware County, RNAV (GPS) RWY 18, Orig

Waycross, GA, Waycross-Ware County, RNAV (GPS) RWY 36, Orig

Cedar Rapids, IA, The Eastern Iowa, RNAV (GPS) RWY 13, Amdt 1

Cedar Rapids, IA, The Eastern Iowa, RNAV (GPS) RWY 31, Amdt 1

Cedar Rapids, IA, The Eastern Iowa, VOR RWY 27, Amdt 12

Marion, IL, Williamson County Regional, ILS OR LOC RWY 20, Amdt 12

Auburn, IN, De Kalb County, ILS OR LOC RWY 27, Orig

Owensboro, KY, Owensboro-Daviess County, RNAV (GPS) RWY 36, Amdt 1

Alexandria, LA, Alexandria Intl, RNAV (GPS) RWY 32, Amdt 1

Annapolis, MD, Lee, RNAV (GPS) RWY 30, Orig-C

Grenada, MS, Grenada Muni, ILS OR LOC RWY 13, Amdt 1

Tunica, MS, Tunica Muni, RNAV (GPS) RWY 17, Amdt 1

Tunica, MS, Tunica Muni, RNAV (GPS) RWY 35, Amdt 1

Fayetteville, NC, Fayetteville Regional/Grannis Field, RNAV (GPS) RWY 4, Amdt 1

Fayetteville, NC, Fayetteville Regional/Grannis Field, RNAV (GPS) RWY 22, Amdt 2

Valentine, NE, Miller Field, RNAV (GPS) RWY 14, Amdt 1

Valentine, NE, Miller Field, RNAV (GPS) RWY 32, Amdt 1

Valentine, NE, Miller Field, NDB RWY 32, Amdt 8

Albuquerque, NM, Albuquerque Intl Sunport, RNAV (GPS) RWY 35, Amdt 1

Farmington, NM, Four Corners Regional, RNAV (GPS) RWY 5, Amdt 1

Farmington, NM, Four Corners Regional, RNAV (GPS) RWY 7, Amdt 2

Cleveland, OH, Cleveland-Hopkins Intl, LDA PRM RWY 6R, Orig

Cleveland, OH, Cleveland-Hopkins Intl, LDA PRM RWY 24L, Orig

Cleveland, OH, Cleveland-Hopkins Intl, LDA/DME RWY 6R, Orig

Cleveland, OH, Cleveland-Hopkins Intl, LDA/DME RWY 24L, Orig

Cleveland, OH, Cleveland-Hopkins Intl, ILS PRM RWY 6L, Orig

Cleveland, OH, Cleveland-Hopkins Intl, ILS PRM RWY 24R, Orig

Altoona, PA, Altoona-Blair County, VOR-A, Amdt 5

Altoona, PA, Altoona-Blair County, RNAV (GPS) RWY 3, Orig

Altoona, PA, Altoona-Blair County, GPS RWY 2, Orig-A, CANCELLED

Dallas-Fort Worth, TX, Dallas/Fort Worth International, ILS OR LOC RWY 17L, Amdt 3, ILS RWY 17L (CAT II), Amdt 3, ILS RWY 17L (CAT III), Amdt 3

Dallas-Fort Worth, TX, Dallas/Fort Worth International, RNAV (GPS) RWY 17L, Amdt 1

Newport News, VA, Newport News/Williamsburg Intl, RNAV (GPS) RWY 25, Amdt 1

Spokane, WA, Felts Field, NDB RWY 3L, Amdt 2

Spokane, WA, Felts Field, VOR RWY 3L, Amdt 3

Spokane, WA, Felts Field, GPS-A, Orig, CANCELLED

Spokane, WA, Felts Field, RNAV (GPS) RWY 3L, Orig

Spokane, WA, Felts Field, RNAV (GPS)-A, Orig

Land O’ Lakes, WI, Kings Land O’ Lakes, NDB RWY 14, Orig

Land O’ Lakes, WI, Kings Land O’ Lakes, NDB RWY 32, Orig

Land O’ Lakes, WI, Kings Land O’ Lakes, NDB OR GPS RWY 14, Amdt 9A, CANCELLED

Land O’ Lakes, WI, Kings Land O’ Lakes, NDB RWY 32, Orig-A, CANCELLED

Madison, WI, Dane County Regional-Truax Field, RNAV (GPS) RWY 14, Amdt 1

Madison, WI, Dane County Regional-Truax Field, RNAV (GPS) RWY 18, Amdt 1

Madison, WI, Dane County Regional-Truax Field, RNAV (GPS) RWY 21, Amdt 1

Madison, WI, Dane County Regional-Truax Field, RNAV (GPS) RWY 32, Amdt 1

Madison, WI, Dane County Regional-Truax Field, RNAV (GPS) RWY 36, Amdt 1

Madison, WI, Dane County Regional-Truax Field, ILS OR LOC/DME RWY 18, Orig

Madison, WI, Dane County Regional-Truax Field, ILS OR LOC RWY 21, Orig

Madison, WI, Dane County Regional-Truax Field, ILS OR LOC/DME RWY 36, Orig

Madison, WI, Dane County Regional-Truax Field, ILS RWY 18, Amdt 7C, CANCELLED

Madison, WI, Dane County Regional-Truax Field, ILS RWY 21, Orig-A, CANCELLED

Madison, WI, Dane County Regional-Truax Field, ILS RWY 36, Amdt 29D, CANCELLED

Madison, WI, Dane County Regional-Truax Field, RADAR-1, Amdt 17

Cheyenne, WY, Cheyenne Regional/Jerry Olson Field, RNAV (GPS) RWY 27, Orig

* * * Effective 7 Jul 2005

Land O’ Lakes, WI, Kings Land O’ Lakes, RNAV (GPS) RWY 14, Orig

Land O’ Lakes, WI, Kings Land O’ Lakes, RNAV (GPS) RWY 32, Orig

Albemarle, NC, Stanly County, (VUJ), NDB OR GPS RWY 22L, Orig-E * * * Effective Immediately ADD PLANVIEW NOTE: RADAR REQUIRED. (CCP NOTAM 3/8539 ommitted submission in the Transmittal Letter)

[FR Doc. 05-7520 Filed 4-14-05; 8:45 am]

BILLING CODE 4910-13-P